DEPARTMENT OF ENERGY

Energy Information Administration

Agency Information Collection Extension

AGENCY: U.S. Energy Information Administration (EIA), U.S. Department of Energy

ACTION: Notice and Request for OMB Review and Comment

SUMMARY: EIA has submitted to the Office of Management and Budget (OMB) for clearance, a proposal for expanded collection of information under the provisions of the Paperwork Reduction Act of 1995, for Form EIA-914, the Monthly Natural Gas Production Report (OMB-1905-0205). EIA requests a three-year extension of this collection with changes to accommodate the expanded Form EIA-914. The proposed data collection will expand the collection of monthly natural gas production from seven geographical areas to twenty-one, and will add collection of crude oil and lease condensate by American Petroleum Institute (API) gravity (crude oil and lease condensate will be collected as a single volume). The data collected will be used to obtain a more accurate and timely estimate of production of natural gas, crude oil, and lease condensate with much greater geographic detail. The proposed expansion of Form EIA-914 will be used by federal and state agencies, industry analysts, and the general public to more effectively monitor and assess natural gas, crude oil, and lease condensate supplies, and by Congress for legislative debate.

DATES: Comments regarding this collection must be received on or before September 25, 2014. If you anticipate that you will be submitting comments, but find it difficult to do so within the period of time allowed by this notice, please advise the DOE Desk Officer at OMB of your intention to make a submission as soon as possible. The Desk Officer may be telephoned at 202-395-4718 or contacted by email at Chad_S_Whiteman@omb.eop.gov.

ADDRESSES: Written comments should be sent to the DOE Desk Officer, Office of Information and Regulatory Affairs, Office of Management and Budget, New Executive Office Building, Room 10102, 735 17th Street NW., Washington, DC 20503, Chad_S_Whiteman@omb.eop.gov. And to Neal Davis, U.S. Energy Information Administration, Mail Stop EI-24, Forrestal Building, 1000 Independence Avenue SW., Washington, DC 20585, Neal.Davis@eia.gov.

FOR FURTHER INFORMATION CONTACT: Direct any requests for additional information or copies of the information collection instrument and instructions to Neal Davis by email at Neal.Davis@eia.gov or by fax at 202-586-4420. The collection instrument and instructions are also available on the Internet at http://www.eia.gov/survey/form/eia_914/proposed/form.pdf.

SUPPLEMENTARY INFORMATION: This information collection request contains:

(1) OMB No.: 1905-0205

(2) Information Collection Request Title: Monthly Crude Oil, Lease Condensate, and Natural Gas Production Report

(3) Type of Request: Revision to a currently approved collection;

(4) Purpose: The proposed, expanded Form EIA-914, Monthly Crude Oil, Lease Condensate, and Natural Gas Production Report, will materially improve EIA's ability to collect and disseminate data on crude oil, lease condensate, and natural gas production in the lower 48 states on a more timely basis in order to meet EIA's mandate and energy data users' needs. Timely and accurate information on monthly crude oil, lease condensate, and natural gas production data in the United States is necessary to discern critical monthly production levels, variations, and trends—information that is crucial for informed decision and policy making before and during peak demand periods. Further, collecting API gravity information for state-level production provides information about the volume and changing trends in the quality of domestic oil production, informing topics of increasing public interest, such as domestic refining capability and potential export of U.S. crude oil.

(4a) Proposed Changes: The expanded Form EIA-914 will collect data from U.S. operators of natural gas and crude oil wells, and this monthly survey will be a cutoff sample (all operators producing above a threshold in a state will be surveyed). EIA currently has no survey to collect crude oil and condensate production. The expanded EIA-914 will improve EIA's oil production statistics and add more detail to its gas production statistics by increasing the number of individual states reporting. The proposed expanded Form EIA-914, Monthly Crude Oil, Lease Condensate, and Natural Gas Production Report, would replace the current Form EIA-914, Monthly Natural Gas Production Report.

Providing timely oil and gas production data by state/area in a convenient “one-stop shop” and a standard format would enhance the utility of the data and provide markets with accurate information that is easy to use.

The proposed expanded Form EIA-914 instructions are included on the form to increase clarity and specificity for the requested data. Crude oil and lease condensate production are added to the form, as are additional states that increases the total number of states/areas from seven to twenty-one. Also added to the form is a request for crude oil and lease condensate production by API gravity category.

(5) Estimated Number of Respondents: 600.

(6) Annual Estimated Number of Total Responses: 7,200.

(7) Annual Estimated Number of Burden Hours: 14,400.

(8) Annual Estimated Reporting and Recordkeeping Cost Burden: None.

Statutory Authority: Section 13(b) of the Federal Energy Administration Act of 1974, Pub. L. 93-275, codified as 15 U.S.C. 772(b).

Issued in Washington, DC, August 19, 2014.
Nanda Srinivasan,
Director, Office of Survey Development and Statistical Integration, U.S. Energy Information Administration.

[FR Doc. 2014-20269 Filed 8-25-14; 8:45 am]

BILLING CODE 6450-01-P